DEPARTMENT OF THE TREASURY

Submission for OMB Review; Comment Request

July 15, 2010.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before August 20, 2010 to be assured of consideration.

Internal Revenue Service (IRS)

OMB Number: 1545-0232.

Type of Review: Extension without change of a currently approved collection.

Title: Information Return of Nontaxable Energy Grants or Subsidized Energy Financing.

Form: 6497.

Abstract: Section 6050D of the Internal Revenue Code requires an information return to be made by any person who administers a Federal, state, or local program providing nontaxable grants or subsidized energy financing. Form 6497 is used for making the information return. The IRS uses the information from the form to ensure that recipients have not claimed tax credits or other benefits with respect to the grants or subsidized financing.

Respondents: Private Sector: Businesses or other for-profits.

Estimated Total Burden Hours: 810 hours.

OMB Number: 1545-1574.

Type of Review: Extension without change of a currently approved collection.

Title: Tuition Payments Statement.

Form: 1098-T.

Abstract: Section 6050S of the Internal Revenue Code requires eligible education institutions to report certain information regarding tuition payments to the IRS and to students. Form 1098-T has been developed to meet this requirement.

Respondents: Private Sector: Businesses or other for-profits, not-for-profit institutions.

Estimated Total Burden Hours: 4,848,090 hours.

OMB Number: 1545-1859.

Type of Review: Extension without change of a currently approved collection.

Title: Notice 2004-11, Research Credit Record Retention Agreement.

Abstract: This notice announces a pilot program in which the Internal Revenue Service and large and mid-size business taxpayers may enter into research credit recordkeeping agreements (RCRAs). If the taxpayer complies with the terms of the RCRA, the Service will deem the taxpayer to satisfy the record keeping requirements of section 6001 for purposes of the credit for increasing research activities under section 41 of the Internal Revenue Code.

Respondents: Private Sector: Businesses or other for-profits.

Estimated Total Burden Hours: 1,170 hours.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Dawn D. Wolfgang,
Treasury PRA Clearance Officer.

[FR Doc. 2010-17719 Filed 7-20-10; 8:45 am]

BILLING CODE 4830-01-P